DEPARTMENT OF HEALTH AND HUMAN SERVICES

Substance Abuse and Mental Health Services Administration

Fiscal Year (FY) 2026 Notice of Supplemental Funding Opportunity

AGENCY: Substance Abuse and Mental Health Services Administration (SAMHSA), Department of Health and Human Services (HHS).

ACTION: Notice of intent to award supplemental funding.

SUMMARY: This notice is to inform the public that the Substance Abuse and Mental Health Services Administration (SAMHSA) is supporting an administrative supplement in scope of the parent award for an eligible grant recipient funded under the FY 2022 Certified Community Behavioral Health Clinic (CCBHC) Planning, Development and Implementation Grants Notice of Funding Opportunity (NOFO) SM-22-002. The total available funding is $2,000,000. This supplemental funding will be used to expand CCBHC services to the Kensington area in Philadelphia, PA, which is currently experiencing one of the highest overdose mortality rates in the nation. The proliferation of new medetomidine-linked overdoses and associated medical complications, along with the emergence of a homeless encampment in April and May of 2024, meets the threshold of a novel, unanticipated public health event and provides a compelling rationale for targeted action through a non-competitive supplement to an existing CCBHC to provide comprehensive mental health and substance use services in Kensington.

FOR FURTHER INFORMATION CONTACT: Jenny Vidas, Chief, Branch Chief, Comprehensive Services and Systems Branch, Substance Abuse and Mental Health Services Administration (SAMHSA), Center for Mental Health Services (CMHS), 5600 Fishers Lane, Rockville, MD 20857, telephone (202) 780-0538, email jenny.vidas@samhsa.hhs.gov.

SUPPLEMENTARY INFORMATION:

Funding Opportunity Title: FY 2022 Certified Community Behavioral Health Clinic (CCBHC) Planning, Development and Implementation Grants.

Assistance Listing Number: 93.696.

Authority: Section 520A of the Public Health Service Act.

Justification: Eligibility for this supplemental funding is limited to the current named recipient of an existing FY2022 Cohort CCBHC-PDI grant, Merakey Philadelphia (SM086822), which is located near the epicenter of an extraordinary confluence of opioid overdose and homelessness. This grant recipient has the capacity and expertise to address this crisis through a non-competitive supplement to an existing CCBHC to provide comprehensive mental health and substance use services in Kensington neighborhood in Philadelphia, PA.

This is not a formal request for application. Assistance will only be provided to the grant recipient Merakey Philadelphia, funded in 2022 under the CCBHC Planning, Development and Implementation Grants.

Dated: September 17, 2025.
Ann Ferrero,
Public Health Analyst.

[FR Doc. 2025-18193 Filed 9-18-25; 8:45 am]

BILLING CODE 4162-20-P